DEPARTMENT OF THE INTERIOR

National Park Service

[NPS-WASO-NRNHL-DTS#-35691; PPWOCRADI0, PCU00RP14.R50000]

National Register of Historic Places; Notification of Pending Nominations and Related Actions

AGENCY: National Park Service, Interior.

ACTION: Notice.

SUMMARY: The National Park Service is soliciting electronic comments on the significance of properties nominated before April 8, 2023, for listing or related actions in the National Register of Historic Places.

DATES: Comments should be submitted electronically by May 3, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before April 8, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

ARKANSAS

Clark County

Henderson State University Historic District, 1100 Henderson St., Arkadelphia, SG100008977

Crawford County

Van Buren Overpass, Jefferson St. between 4th St. and Riverfront Rd., Van Buren, SG100008980

Dallas County

Attwood House, 1901 W 4th St., Fordyce, SG100008979

Independence County

Jeffery, Dr. Paul H., House and Office, 50 Earnheart Rd., Batesville, SG100008978

Pulaski County

University Park Historic District, Roughly bounded by Arthur Dr., West 12th, and South Hughes Sts., Little Rock, SG100008973

Railroad Call Historic District (Boundary Increase), 104 South Pulaski St., 1302 and 1304 West 2nd St., Little Rock, BC100008974

Laporte, William, Building, 1924 Commerce St., Little Rock, SG100008975

Sevier County

De Queen & Eastern Railroad Overpass, US 71 over the De Queen & Eastern RR Line, Lockesburg, SG100008976

FLORIDA

Miami-Dade County

Fisher-Sapero House, 9200 Carlyle Ave., Surfside, SG100008964

Indian River County

Riverside, 13425 North Indian River Dr., Sebastian, SG100008971

Polk County

Surveyor's Lake Schoolhouse, 8625 Sinkhole Rd., Bartow, SG100008963

KANSAS

McPherson County

Bethany Lutheran Church and Parsonage, 320-340 North Main St., Lindsborg, SG100008966

KENTUCKY

Nelson County

Holiday Inn of Bardstown, 1875 New Haven Rd., Bardstown, SG100008960

MASSACHUSETTS

Hampden County

Elias Brookings School, 367 Hancock St., Springfield, SG100008959

Hampshire County

Forty Acres and Its Skirts Historic District, 130 113-115 123 River Dr., Hadley, SG100008956

Worcester County

American Optical Company Historic District, Optical Dr., Mechanic, Case, Cabot, Charlton, Main, and Wells Sts., Southbridge, SG100008957

Mary E. Wells School, 80 Marcy St., Southbridge, SG100008958

PENNSYLVANIA

Erie County

Girard Commercial Historic District, Main St., roughly between Rice and Penn Aves., Girard, SG100008955

SOUTH CAROLINA

Pickens County

Arial Mill, 212 Rice Rd., Easley vicinity, SG100008970

TEXAS

Taylor County

Abilene Commercial Historic District (Boundary Increase II), (Abilene MPS), 159 and 101 Walnut St., Abilene, BC100008984

VERMONT

Washington County

Adamant Village Historic District, Haggett, Martin, Quarry, and Adamant Rds., Center St., Calais, SG100008954

VIRGINIA

Accomack County

Outlaw, Samuel D., Blacksmith Shop, (Historic Resources Associated with African American Watermen of the Virginia Chesapeake Bay MPS), 5 Boundary Ave., Onancock, MP100008968

A request for removal has been made for the following resource:

TENNESSEE

Shelby County

Nelson-Kirby House, 6792 Poplar Pike, Germantown, OT86002913

Additional documentation has been received for the following resources:

ARKANSAS

Carroll County

Lake Leatherwood Park Historic District (Additional Documentation), (Facilities Constructed by the CCC in Arkansas MPS), 1303 Cty. Rd. 204, Eureka Springs, AD98001346

Pulaski County

Capitol View Neighborhood Historic District (Additional Documentation), Roughly bounded by Riverview Dr., South Schiller., West 7th, and Woodrow Sts., Little Rock, AD00000813

Hillcrest Historic District (Additional Documentation), Bounded by Woodrow, Jackson and Markham Sts. and North Lookout Rd., Little Rock, AD90001920

SOUTH CAROLINA

Charleston County

Hutchinson House (Additional Documentation), (Edisto Island MRA), 7666 Point of Pines Rd., Edisto Island, AD86003218

Nomination submitted by Federal Preservation Officer:

The State Historic Preservation Officer reviewed the following nomination and responded to the Federal Preservation Officer within 45 days of receipt of the nomination and supports listing the property in the National Register of Historic Places.

COLORADO

Larimer County

Redfeather Ranger Station, 274 Dowdy Lake Rd., Arapahoe and Roosevelt NF, Red Feather Lakes, SG100008985

(Authority: Section 60.13 of 36 CFR part 60)

Dated: April 12, 2023.
Sherry A. Frear,
Chief, National Register of Historic Places/National Historic Landmarks Program.

[FR Doc. 2023-08174 Filed 4-17-23; 8:45 am]

BILLING CODE 4312-52-P